DEPARTMENT OF EDUCATION

National Assessment Governing Board Quarterly Board Meeting

AGENCY: National Assessment Governing Board, U.S. Department of Education.

ACTION: Announcement of open and closed meetings.

SUMMARY: This notice sets forth the agenda for the March 2-4, 2017 Quarterly Board Meeting of the National Assessment Governing Board (hereafter referred to as Governing Board). This notice provides information to members of the public who may be interested in attending the meeting or providing written comments on the meeting. Due to unavoidable delays during the Administration transition, this notice is being posted less than 15 days prior to the Board meeting date.

DATES: The Quarterly Board Meeting will be held on the following dates:

• March 2, 2017 from 9:00 a.m. to 6:00 p.m.

• March 3, 2017 from 8:30 a.m. to 5:00 p.m.

• March 4, 2017 from 7:30 a.m. to 11:45 a.m.

ADDRESSES: Hilton Alexandria Old Town, 1767 King Street, Alexandria, Virginia 22314.

FOR FURTHER INFORMATION CONTACT: Munira Mwalimu, Executive Officer/Designated Federal Official of the Governing Board, 800 North Capitol Street NW., Suite 825, Washington, DC 20002, telephone: (202) 357-6938, fax: (202) 357-6945.

SUPPLEMENTARY INFORMATION:

Statutory Authority and Function: The Governing Board is established under the National Assessment of Educational Progress Authorization Act, Title III of Public Law 107-279. Information on the Governing Board and its work can be found at www.nagb.gov.

The Governing Board is established to formulate policy for the National Assessment of Educational Progress (NAEP). The Governing Board's responsibilities include the following: Selecting subject areas to be assessed, developing assessment frameworks and specifications, developing appropriate student achievement levels for each grade and subject tested, developing standards and procedures for interstate and national comparisons, improving the form and use of NAEP, developing guidelines for reporting and disseminating results, and releasing initial NAEP results to the public.

March 2-4, 2017 Committee Meetings

The Governing Board's standing committees will meet to conduct regularly scheduled work based on agenda items planned for this Quarterly Board Meeting and follow-up items as reported in the Governing Board's committee meeting minutes available at http://nagb.gov/what-we-do/board-committee-reports-and-agendas.html.

Detailed Meeting Agenda: March 2-4, 2017

March 2: Symposium and Committee Meetings: NAEP Long-Term Trend Symposium: Open Session: 9:00 a.m. to 11:45 a.m.

Assessment Development Committee (ADC): Closed Session: 1:00 p.m. to 4:00 p.m.

Committee on Standards, Design and Methodology (COSDAM): Open Session: 1:30 p.m. to 4:00 p.m.

Reporting and Dissemination Committee (R&D): Open Session: 1:30 p.m. to 3:00 p.m.

Executive Committee: Open Session: 4:30 p.m. to 5:15 p.m.; Closed Session: 5:15 p.m. to 6:00 p.m.

March 3: Full Governing Board and Committee Meetings

Full Governing Board: Open Session: 8:30 a.m. to 9:45 a.m.; 12:15 p.m. to 5:00 p.m.

Committee Meetings:

ADC and COSDAM: Joint Open Session: 10:00 a.m. to 11:00 a.m.

ADC: Open Session: 11:00 a.m. to 12:00 p.m.

COSDAM: Open Session: 11:00 a.m. to 12:00 p.m.

R&D: Open Session 10:00 a.m. to 12:00 p.m.

March 4: Full Governing Board and Committee Meetings

Nominations Committee: Closed Session: 7:30 a.m. to 8:10 a.m.; Open Session: 8:10 a.m. to 8:15 a.m.

Full Governing Board: Closed Session: 8:30 a.m. to 8:50 a.m.; Open Session: 8:50 a.m. to 10:15 a.m.; Closed Session: 10:30 a.m. to 11:45 a.m.

On Thursday, March 2, 2017, the Governing Board will convene a symposium in open session on NAEP Long-Term Trend from 9:00 a.m. to 11:45 a.m. Thereafter, the standing committees will meet. ADC will meet in closed session from 1:00 p.m. to 4:00 p.m. to review secure digital-based tasks for the grade 12 NAEP Science assessment and secure task sketches for the NAEP Mathematics assessment at grades 4 and 8, as well as secure Long-Term Trend Reading and Mathematics items. This meeting must be conducted in closed session because the test items are secure and have not been released to the public. Public disclosure of the secure test items would significantly impede implementation of the NAEP assessment program if conducted in open session. Such matters are protected by exemption 9(B) of § 552b(c) of Title 5 of the United States Code.

COSDAM will meet in open session from 1:30 p.m. to 4:00 p.m. R&D will meet in open session from 1:30 p.m. to 3:00 p.m. The Executive Committee will meet in open session on March 2, 2017 from 4:30 p.m. to 5:15 p.m. and in closed session from 5:15 p.m. to 6:00 p.m. During the closed session, the Executive Committee will receive and discuss cost estimates and implications for implementing the Long-Term Trend assessment. This meeting must be conducted in closed session because public disclosure of this information would likely have an adverse financial effect on the NAEP program by providing confidential cost details and proprietary contract costs of current NAEP contractors to the public. Discussion of this information would be likely to significantly impede implementation of a proposed agency action if conducted in open session. Such matters are protected by exemption 9(B) of section 552b of Title 5 of the United States Code.

On Friday, March 3, the full Governing Board will meet in open session from 8:30 a.m. to 9:45 a.m. The Governing Board will review and approve the March 2-4, 2017 Board meeting agenda and meeting minutes from the November 2016 Quarterly Board Meeting. Thereafter, the Chairman, Terry Mazany will administer the oath of office to a new Board member, following which he will introduce the Governing Board's new Deputy Executive Director and provide remarks.

This session will be followed by a report from the Executive Director of the Governing Board, William Bushaw, followed by an update on National Center for Education Statistics (NCES) work by Peggy Carr, Acting Commissioner of NCES.

The Governing Board will recess for committee meetings at 9:45 a.m. The committee meetings are scheduled to take place from 10:00 a.m. to 12:00 p.m. to conduct regularly scheduled work. ADC will meet in a joint open session with COSDAM from 10:00 a.m. to 11:00 a.m. Thereafter the two committees will meet separately in open session from 11:00 a.m. to 12:00 p.m. R&D will meet in open session from 10:00 a.m. to 12:00 p.m.

Following the committee meetings on Friday, March 3, the Governing Board will meet in open session from 12:15 p.m. to 1:45 p.m. for a panel discussion on the topic of High School Graduates on the Path to Middle Skills Jobs. Following a short break scheduled from 1:45 p.m. to 2:00 p.m., the Governing Board will meet in open session from 2:00 p.m. to 5:00 p.m.

From 2:00 p.m. to 2:45 p.m., the Governing Board will engage in follow up discussions on the Long-Term Trend Symposium. From 2:45 p.m. to 3:30 p.m., the Board will have a discussion on the Response to the Achievement Levels Evaluation.

Thereafter, the Governing Board will take a fifteen-minute break and reconvene in open session from 4:00 p.m. to 5:00 p.m. to receive a briefing from Executive Director of the Council of Chief State School Officers (CCSSO) Chris Minnich, and from the CCSSO/Governing Board Policy Task Force Chair Shelly Loving-Ryder.

The March 3, 2017 meeting will adjourn at 5:00 p.m.

On March 4, the Nominations Committee will meet in closed session from 7:30 a.m. to 8:10 a.m. The committee will discuss the final slate of nominations for Governing Board vacancies for terms beginning on October 1, 2017. The Nominations Committee's discussions pertain solely to internal personnel rules and practices of an agency and information of a personal nature where disclosure would constitute a clearly unwarranted invasion of personal privacy. As such, the discussions are protected by exemptions 2 and 6 of § 552b(c) of Title 5 of the United States Code.

The Nominations Committee will meet in open session on March 4 from 8:10 a.m. to 8:15 a.m. to take action on the final candidates recommended for open positions to be submitted to the Secretary of Education. On March 4, the Governing Board will meet in closed session from 8:30 a.m. to 8:50 a.m. to receive a briefing from the Nominations Committee on the recommended final slate of candidates for Board vacancies for terms beginning October 1, 2017. For the reasons noted above, these discussions are also protected by exemptions 2 and 6 of § 552b(c) of Title 5 of the United States Code. Thereafter, from 8:50 a.m. to 9:00 a.m., the Board will meet in open session to take action on the final slate of candidates for submission to the Secretary of Education.

The Governing Board will meet in open session from 9:00 a.m. to 9:30 a.m. to discuss the Governing Board's Strategic Vision, and the Chairman's charge to the committees.

The Governing Board will then take a fifteen minute break and reconvene in open session from 9:45 a.m. to 10:15 a.m. to receive an update on committee reports and take action on the R&D recommended Guidelines for Releasing, Reporting and Disseminating Results.

The Governing Board will take another 15 minute break from 10:15 a.m. to 10:30 a.m. and then reconvene in closed session to receive a briefing on the 2016 NAEP Arts Assessment Report. This meeting is being conducted in closed session because the NAEP Arts Assessment data has not been released to the public. Public disclosure of the secure data would significantly impede implementation of the NAEP assessment program if conducted in open session. Such matters are protected by exemption 9(B) of § 552b of Title 5 of the United States Code.

The March 4, 2017 meeting is scheduled to adjourn at 11:45 a.m.

Access to Records of the Meeting: Pursuant to FACA requirements, the public may also inspect the meeting materials at www.nagb.gov beginning on Thursday, March 2, 2017 by 10:00 a.m. ET. The official verbatim transcripts of the public meeting sessions will be available for public inspection no later than 30 calendar days following the meeting.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe Web site.

You may also access documents of the Department published in the Federal Register by using the article search feature at: www.federalregister.gov. Specifically, through the advanced search feature at this site, you can limit your search to documents published by the Department.

Authority: Pub. L. 107-279, Title III—National Assessment of Educational Progress § 301.

Dated: February 22, 2017.
Munira Mwalimu,
Designated Federal Official, National Assessment Governing Board (NAGB), U. S. Department of Education.

[FR Doc. 2017-03832 Filed 2-27-17; 8:45 am]

BILLING CODE P